DEPARTMENT OF HEALTH AND HUMAN SERVICES

National Institutes of Health

National Institute of Allergy and Infectious Diseases; Cancellation of Meeting

Notice is hereby given of the cancellation of the AIDS Research Advisory Committee, NIAID, June 05, 2013, 8:00 a.m. to June 05, 2013, 5:00 p.m., National Institutes of Health, Building 10, 10 Center Drive, FAES Academic Center, Bethesda, MD, 20892 which was published in the Federal Register on April 12, 2013, 78 FR 21961.

Cancelled meeting, AVRS will not be having a June meeting.

Dated: April 17, 2013.
David Clary,
Program Analyst, Office of Federal Advisory Committee Policy.

[FR Doc. 2013-09587 Filed 4-23-13; 8:45 am]

BILLING CODE 4140-01-P